ENVIRONMENTAL PROTECTION AGENCY

[OPP-EPA-HQ-2005-0252; FRL-7762-3]

Iodomethane Risk Assessment; Notice of Availability; Extension of Comment Period

AGENCY: Environmental Protection Agency (EPA).

ACTION: Notice; extension of comment period.

SUMMARY: EPA issued a notice in the Federal Register of January 6, 2006, concerning the availability of EPA's human health risk assessment and related documents for the fumigant iodomethane. These documents can be viewed in the docket. This document is extending the comment period for 15 days, from February 6, 2006 to February 21, 2006.

DATES: Comments, identified by the docket identification number OPP-EPA-HQ-2005-0252, must be received on or before February 21, 2006.

ADDRESSES: Follow the detailed instructions as provided under ADDRESSES in the Federal Register document of January 6, 2006.

FOR FURTHER INFORMATION CONTACT: Mary L. Waller, Registration Division (7505C), Office of Pesticide Programs, Environmental Protection Agency, 1200 Pennsylvania Ave., NW., Washington, DC 20460-0001; telephone number: (703) 308-9354; fax number: (703) 308-1825; e-mail address: waller.mary @epa.gov.

SUPPLEMENTARY INFORMATION:

I. General Information

A. Does this Action Apply to Me?

The Agency included in the proposed rule a list of those who may be potentially affected by this action. If you have questions regarding the applicability of this action to a particular entity, consult the person listed under the FOR FURTHER INFORMATION CONTACT.

B. How Can I Access Electronic Copies of this Document and Other Related Information?

Electronic access. You may access this Federal Register document electronically through the EPA Internet under “Federal Register” listings at http://www.epa.gov/fedrgstr/.

In addition to using EDOCKET http://www.epa.gov/edocket/, you may access this Federal Register document electronically through the EPA Internet under the “Federal Register” listings at http://www.epa.gov/fedrgstr/. A frequently updated electronic version of 40 CFR part 180 is available at E-CFR Beta Site Two at http://www.gpoaccess.gov/ecfr/.

EDOCKET, EPA's electronic public docket and comment system was replaced on November 25,2005, by an enhanced Federal-wide electronic docket management and comment system located at http://www.regulations.gov/. Follow the on-line instructions.

II. What Action is EPA taking?

This document extends the public comment period established in the Federal Register issued on January 6, 2006 (71 FR 930). In that document, EPA made available the human health risk assessment for iodomethane. Iodomethane is a new chemical proposed for use as a pre-plant fumigant to control soil borne pests including weed seeds, nematodes, insects, and diseases in fields intended for commercial production of strawberries, tomatoes, peppers, turf, ornamentals (flowers grown for cutting, bulbs, and nursery plants), trees and vines. EPA is hereby extending the comment period, which was set to end on February 6, 2006, to February 21, 2006.

III. What is the Agency's Authority for Taking this Action?

Section 3 of FIFRA directs that “the Administrator may by regulation limit the distribution, sale, or use in any State of any pesticide that is not registered under this Act and that is not the subject of an experimental use permit under section 4 or an emergency exemption under section 18.

IV. Do Any Statutory and Executive Order Reviews Apply to this Action?

No. This action is not a rulemaking, it merely extends the date by which public comments on a risk assessment must be submitted to EPA as announced in a Notice of Availability that previously published in the Federal Register of January 6, 2006 (71 FR 930).

List of Subjects

Environmental protection, Pesticides and pests.

Dated: February 1, 2006.
Lois Rossi,
Director, Registration Division, Office of Pesticide Programs.

[FR Doc. 06-1082 Filed 2-1-06; 8:45 am]

BILLING CODE 6560-50-S